DEPARTMENT OF THE INTERIOR

Fish and Wildlife Service

[FWS-R4-ES-2018-N016; FXES11140400000-190-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by April 18, 2019.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species/numbers | Location | Activity | Type of take | Permit action
TE 12370D-0 | Kelly Lutsch, Glenview, IL | Gray bat (Myotis grisescens), Indiana bat (Myotis sodalis), and Northern long-eared bat (Myotis septentrionalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys, and WNS surveillance | Enter hibernacula or maternity roost caves, capture with mist nets or harp traps, handle, identify, band, radio-tag, swab, wing-punch, collect hair samples, and release | New.
TE 12379D-0 | Robert McCleery, Gainesville, FL | Rice rat (Oryzomys palustris natator) | Florida | Post-Hurricane Irma population survey | Trap, handle, mark, tag, and release | New.
TE 100070-3 | USDA Forest Service | Gray bat (Myotis grisescens), Indiana bat (Myotis sodalis), Northern long-eared bat (Myotis septentrionalis), Flattened musk turtle (Sternotherus depressus), Rush darter (Etheostoma phytophilum), Black Warrior waterdog (Necturus alabamensis), Alabama moccasinshell (Medionidus acutissimus), Dark pigtoe (Pleurobema furvum), Triangular kidneyshell (Ptychobranchus greenii), Fleshy-fruit gladecress (Leavenworthia crassa), Kral's water-plantain (Sagittaria secundifolia), Alabama streak-sorus fern (Thelypteris pilosa var. alabamensis), and Price's potato-bean (Apios priceana) | National Forests in Alabama | Surveys, population monitoring, and WNS surveillance | Bats: Capture with mist nets and harp traps, handle, identify, band, radio-tag, collect hair samples, release, and salvage Aquatic species: capture, release, and salvage Plants: Collect roots, seeds, flowers, and leaves | Renewal and Amendment.
48049B-2 | Kathryn Cunningham, Garner, NC | Gray bat (Myotis grisescens) | Alabama, Arkansas, Florida, Illinois, Indiana, Kansas, Kentucky, Mississippi, Missouri, North Carolina, Oklahoma, Tennessee, and Virginia | Presence/absence surveys and population monitoring | Enter hibernacula or maternity roost caves, capture with mist nets or harp traps, handle, identify, band, radio-tag, release, and salvage | Amendment.
TE 16876D-0 | Kristen Clemens, Florence, KY | Gray bat (Myotis grisescens), Indiana bat (Myotis sodalis), and Northern long-eared bat (Myotis septentrionalis) | Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys | Capture with mist nets, handle, band, radio-tag, and release | New.
TE 083085-3 | Eric Menges, Lake Placid, FL | Polygala lewtonii (Lewton's polygala) and Ziziphus celata (Florida ziziphus) | Lake Wales Ridge National Wildlife Refuge, Highlands County, Florida | Germination experiments, seed dispersal studies, establishment of viable populations, and collection of voucher specimens | Remove and reduce to possession (collect) seeds | Renewal and Amendment.
TE 20276D-0 | Royal Botanic Gardens, Kew, Richmond, UK | Calyptranthes thomasiana (no common name (NCN)), Peperomia wheeleri (Wheeler's peperomia), Varronia rupicola (NCN), and Zanthoxylum thomasianum (St. Thomas prickly-ash) | Virgin Islands National Park, U.S. Virgin Islands, and Vieques National Wildlife Refuge, Puerto Rico | Artificial propagation, long-term seed storage, genetic studies, reproductive studies, and collection voucher specimens | Remove and reduce to possession (collect) seeds, cuttings, leaf samples, floral structures, and vegetative material with leaves and reproductive structures | New.
TE 21276D-0 | Christopher Carpenter, Winchester, KY | Gray bat (Myotis grisescens), Indiana bat (Myotis sodalis), Northern long-eared bat (Myotis septentrionalis), and Virginia big-eared bat (Corynorhinus (=Plecotus) townsendii virginianus) | Alabama, Arkansas, Connecticut, Georgia, Illinois, Indiana, Iowa, Kentucky, Maryland, Michigan, Mississippi, Missouri, New Jersey, New York, North Carolina, Ohio, Oklahoma, Pennsylvania, Tennessee, Vermont, Virginia, and West Virginia | Presence/absence surveys and population monitoring | Enter hibernacula or maternity roost caves, capture with mist nets or harp traps, handle, identify, band, radio-tag, and release | New.
TE 02166C-1 | Zoe Bryant, Wixom, MI | Gray bat (Myotis grisescens) and Indiana bat (Myotis sodalis) | Alabama, Arkansas, Connecticut, Delaware, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys and population monitoring | Capture with mist nets or harp traps, handle, identify, band, radio tag, and release | Amendment.
TE 171518-1 | Ouachita National Forest, Hot Springs, AR | Gray bat (Myotis grisescens), Indiana bat (Myotis sodalis), Northern long-eared bat (Myotis septentrionalis), Red-cockaded woodpecker (Picoides borealis), and American burying beetle (Nicrophorus americanus) | Alabama, Arkansas, Florida, Georgia, Louisiana, Mississippi, Oklahoma, Tennessee, and Texas |  | Bats: Enter hibernacula or maternity roost caves, capture with mist nets or harp traps, handle, identify, and salvage Red-cockaded woodpecker: Monitor nest cavities, construct and monitor artificial nest cavities and restrictors, capture, handle, band, translocate, and salvage. American burying beetle: Capture and release | Renewal and Amendment.
TE 77472C-0 | Stream Techs, LLC, Athens, GA | Amber darter (Percina antesella), Blue shiner (Cyprinella caerulea), Cherokee darter (Etheostoma scotti), Conasauga logperch (Percina jenkinsi), Etowah darter (Etheostoma etowahae), and Goldline darter (Percina aurolineata) | Georgia | Presence/absence surveys | Capture, handle, identify, and release | New.

Authority

We publish this notice under section 10(c) of the Endangered Species Act of 1973, as amended (16 U.S.C. 1531 et seq.).

Franklin Arnold,
Acting Assistant Regional Director, Ecological Services, Southeast Region.

[FR Doc. 2019-05111 Filed 3-18-19; 8:45 am]

BILLING CODE 4333-15-P